DEPARTMENT OF TRANSPORTATION

Federal Aviation Administration

14 CFR Part 97

[Docket No. 31193; Amdt. No. 3799]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 23, 2018. The compliance date for each SIAP, associated Takeoff Minimums, and ODP is specified in the amendatory provisions.

The incorporation by reference of certain publications listed in the regulations is approved by the Director of the Federal Register as of May 23, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on May 4, 2018.
John S. Duncan,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 21 June 2018

Brookhaven, MS, Brookhaven-Lincoln County, Takeoff Minimums and Obstacle DP, Amdt 1

Myrtle Beach, SC, Myrtle Beach Intl, ILS OR LOC RWY 18, ILS RWY 18 (SA CAT I), ILS RWY 18 (SA CAT II), Amdt 5A

Myrtle Beach, SC, Myrtle Beach Intl, RNAV (GPS) RWY 18, Amdt 4B

Minocqua-Woodruff, WI, Lakeland/Noble F Lee Memorial Field, RNAV (GPS) RWY 28, Orig-B

Minocqua-Woodruff, WI, Lakeland/Noble F Lee Memorial Field, RNAV (GPS) RWY 36, Orig-B

New Holstein, WI, New Holstein Muni, RNAV (GPS) RWY 32, Orig-B

Effective 19 July 2018

Nikolai, AK, Nikolai, RNAV (GPS) RWY 5, Amdt 1

Nikolai, AK, Nikolai, RNAV (GPS) RWY 23, Amdt 1

Nikolai, AK, Nikolai, Takeoff Minimums and Obstacle DP, Amdt 1

Fayette, AL, Richard Arthur Field, RNAV (GPS) RWY 1, Amdt 1C

Fayette, AL, Richard Arthur Field, RNAV (GPS) RWY 19, Amdt 1C

Fayetteville, AR, Drake Field, RADAR 1, Orig-A, CANCELED

Siloam Springs, AR, Smith Field, VOR-A, Amdt 9, CANCELED

Apple Valley, CA, Apple Valley, Takeoff Minimums and Obstacle DP, Amdt 1A

Davis/Woodland/Winters, CA, Yolo County, Takeoff Minimums and Obstacle DP, Amdt 2

Eureka, CA, Murray Field, RNAV (GPS) RWY 12, Orig-A

Eureka, CA, Murray Field, RNAV (GPS)-B, Orig-A

Eureka, CA, Murray Field, VOR-A, Amdt 7B

Susanville, CA, Susanville Muni, RNAV (GPS)-A, Amdt 2

Tulare, CA, Mefford Field, Takeoff Minimums and Obstacle DP, Orig-A

Denver, CO, Denver Intl, ILS OR LOC RWY 17R, Amdt 3B

Denver, CO, Denver Intl, ILS OR LOC RWY 35L, ILS RWY 35L SA CAT I, ILS RWY 35L CAT II, ILS RWY 35L CAT III, Amdt 5B

Rangely, CO, Rangely, ELIZZ ONE, Graphic DP

Rangely, CO, Rangely, Takeoff Minimums and Obstacle DP, Orig

Danielson, CT, Danielson, Takeoff Minimums and Obstacle DP, Amdt 4

Williston, FL, Williston Muni, Takeoff Minimums and Obstacle DP, Amdt 2A

Douglas, GA, Douglas Muni, RNAV (GPS) RWY 4, Amdt 2

Douglas, GA, Douglas Muni, RNAV (GPS) RWY 22, Amdt 2

Jesup, GA, Jesup-Wayne County, RNAV (GPS) RWY 29, Orig-A

Macon, GA, Macon Downtown, VOR-A, Amdt 6A

Lihue, HI, Lihue, DIANE ONE, GRAPHIC DP, CANCELED

Clarinda, IA, Schenck Field, RNAV (GPS) RWY 2, Amdt 1

Clarinda, IA, Schenck Field, RNAV (GPS) RWY 20, Amdt 1

Blackfoot, ID, McCarley Fld, Takeoff Minimums and Obstacle DP, Amdt 1A

Chicago/Aurora, IL, Aurora Muni, RNAV (GPS) RWY 27, Amdt 1B

Chicago/Aurora, IL, Aurora Muni, VOR RWY 36, Amdt 3A

Chicago, IL, Chicago Midway Intl, Takeoff Minimums and Obstacle DP, Amdt 12

Jacksonville, IL, Jacksonville Muni, VOR RWY 13, Amdt 1, CANCELED

Lawrenceville, IL, Lawrenceville-Vincennes Intl, Takeoff Minimums and Obstacle DP, Orig-A

Plymouth, MA, Plymouth Muni, Takeoff Minimums and Obstacle DP, Amdt 3

Baltimore, MD, Baltimore/Washington Intl Thurgood Marshall, ILS OR LOC RWY 10, ILS RWY 10 (SA CAT I), ILS RWY 10 (CAT II), ILS RWY 10 (CAT III), Amdt 21C

Baltimore, MD, Baltimore/Washington Intl Thurgood Marshall, RNAV (GPS) Y RWY 10, Amdt 3C

Baltimore, MD, Baltimore/Washington Intl Thurgood Marshall, RNAV (GPS) Y RWY 28, Amdt 2C

Baltimore, MD, Baltimore/Washington Intl Thurgood Marshall, RNAV (RNP) Z RWY 10, Amdt 2C

Eastport, ME, Eastport Muni, NDB RWY 15, Amdt 1A, CANCELED

Eastport, ME, Eastport Muni, NDB RWY 33, Amdt 1A, CANCELED

Kalamazoo, MI, Kalamazoo/Battle Creek Intl, RNAV (GPS) RWY 5, Amdt 1

Kalamazoo, MI, Kalamazoo/Battle Creek Intl, RNAV (GPS) RWY 23, Amdt 1

Kalamazoo, MI, Kalamazoo/Battle Creek Intl, RNAV (GPS) RWY 35, Amdt 1

Plymouth, MI, Canton-Plymouth-Mettetal, RNAV (GPS)-B, Orig-A

Plymouth, MI, Canton-Plymouth-Mettetal, VOR-A, Amdt 12A, CANCELED

West Branch, MI, West Branch Community, RNAV (GPS) RWY 27, Amdt 1

West Branch, MI, West Branch Community, VOR RWY 27, Orig-F, CANCELED

Manteo, NC, Dare County Rgnl, NDB RWY 5, Amdt 5, CANCELED

Manteo, NC, Dare County Rgnl, NDB RWY 17, Amdt 6A, CANCELED

Gordon, NE, Gordon Muni, NDB RWY 22, Amdt 4C

Moriarty, NM, Moriarty Muni, RNAV (GPS) RWY 8, Orig-A

Moriarty, NM, Moriarty Muni, RNAV (GPS) RWY 26, Orig-A

Moriarty, NM, Moriarty Muni, Takeoff Minimums and Obstacle DP, Orig-A

Hudson, NY, Columbia County, Takeoff Minimums and Obstacle DP, Amdt 1A

Wellsville, NY, Wellsville Muni Arpt,Tarantine Fld, VOR-A, Amdt 6, CANCELED

West Union, OH, Alexander Salamon, NDB RWY 23, Amdt 4A, CANCELED

Okmulgee, OK, Okmulgee Rgnl, RNAV (GPS) RWY 36, Orig

Portland, OR, Portland-Troutdale, Takeoff Minimums and Obstacle DP, Amdt 7

Philadelphia, PA, Philadelphia Intl, ILS V RWY 9R (CONVERGING), Amdt 6

Philadelphia, PA, Philadelphia Intl, ILS V RWY 17 (CONVERGING), Amdt 7

Reading, PA, Reading Rgnl/Carl A Spaatz Field, Takeoff Minimums and Obstacle DP, Amdt 5A

Clemson, SC, Oconee County Rgnl, NDB RWY 25, Amdt 1A, CANCELED

Brookings, SD, Brookings Rgnl, ILS OR LOC RWY 12, Orig-C

Austin, TX, Austin-Bergstrom Intl, ILS OR LOC RWY 17L, ILS RWY 17L SA CAT I, ILS RWY 17L CAT II, ILS RWY 17L CAT III, Amdt 3A

Austin, TX, Austin-Bergstrom Intl, ILS OR LOC RWY 17R, Amdt 5A

Beaumont/Port Arthur, TX, Jack Brooks Rgnl, LOC BC RWY 30, Amdt 20, CANCELED

Bowie, TX, Bowie Muni, NDB RWY 17, Amdt 4A, CANCELED

Bowie, TX, Bowie Muni, RNAV (GPS) RWY 17, Amdt 1

Bowie, TX, Bowie Muni, RNAV (GPS) RWY 35, Amdt 2

Carrizo Springs, TX, Dimmit County, NDB RWY 31, Amdt 3C, CANCELED

Lamesa, TX, Lamesa Muni, RNAV (GPS) RWY 16, Amdt 1

Lamesa, TX, Lamesa Muni, RNAV (GPS) RWY 34, Amdt 2

Lubbock, TX, Lubbock Preston Smith Intl, RNAV (GPS) RWY 8, Amdt 3

Lubbock, TX, Lubbock Preston Smith Intl, RNAV (GPS) RWY 26, Amdt 3

Mineola, TX, Mineola Wisener Field, Takeoff Minimums and Obstacle DP, Orig-B

Mineola, TX, Mineola Wisener Field, VOR-A, Amdt 6C

Huntington, UT, Huntington Muni, Takeoff Minimums and Obstacle DP, Amdt 2B

Richmond, VA, Richmond Intl, ILS OR LOC RWY 2, Amdt 2B

Richmond, VA, Richmond Intl, ILS OR LOC RWY 16, Amdt 9B

Richmond, VA, Richmond Intl, RNAV (GPS) RWY 7, Amdt 1B

Richmond, VA, Richmond Intl, RNAV (GPS) RWY 25, Amdt 2A

Richmond, VA, Richmond Intl, RNAV (GPS) Z RWY 2, Amdt 1C

Richmond, VA, Richmond Intl, RNAV (GPS) Z RWY 16, Amdt 1D

Richmond, VA, Richmond Intl, RNAV (GPS) Z RWY 20, Amdt 2C

Richmond, VA, Richmond Intl, RNAV (GPS) Z RWY 34, Amdt 1D

Richmond, VA, Richmond Intl, RNAV (RNP) Y RWY 2, Orig-B

Richmond, VA, Richmond Intl, RNAV (RNP) Y RWY 16, Orig-C

Richmond, VA, Richmond Intl, RNAV (RNP) Y RWY 20, Orig-B

Richmond, VA, Richmond Intl, RNAV (RNP) Y RWY 34, Orig-C

Highgate, VT, Franklin County State, VOR RWY 19, Amdt 5B

Burlington, WI, Burlington Muni, VOR RWY 29, Amdt 8B, CANCELED

Milwaukee, WI, Lawrence J Timmerman, LOC RWY 15L, Amdt 6D

Rescinded: On April 9, 2018 (83 FR 15052), the FAA published an Amendment in Docket No. 31186, Amdt No. 3793, to Part 97 of the Federal Aviation Regulations under section 97.33. The following entry for Kailua/Kona, HI, effective April 26, 2018, is hereby rescinded in its entirety:

Kailua/Kona, HI, Ellison Onizuka Kona Intl at Keahole, RNAV (RNP) Z RWY 17, Orig-B

[FR Doc. 2018-10818 Filed 5-22-18; 8:45 am]

BILLING CODE 4910-13-P